DEPARTMENT OF DEFENSE

Office of the Secretary

[Docket ID DoD-2012-OS-0095]

Privacy Act of 1974; System of Records

AGENCY: Defense Threat Reduction Agency, DoD.

ACTION: Notice to amend three System of Records.

SUMMARY: The Defense Threat Reduction Agency is amending three systems of records notices in its existing inventory of record systems subject to the Privacy Act of 1974 (5 U.S.C. 552a), as amended.

DATES: This proposed action will be effective on October 19, 2012 unless comments are received which result in a contrary determination. Comments will be accepted on or before October 18, 2012.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Juanita Gaines, Freedom of Information and Privacy Office, Defense Threat Reduction Agency, 8725 John J. Kingman Road, Fort Belvoir, VA 22060-6201 or by phone at (703) 767-1771.

SUPPLEMENTARY INFORMATION: The Defense Threat Reduction Agency systems of records notices subject to the Privacy Act of 1974 (5 U.S.C. 552a), as amended, have been published in the Federal Register and are available from the address in FOR FURTHER INFORMATION CONTACT.

The proposed changes to the records systems being amended are set forth below. The proposed amendment is not within the purview of subsection (r) of the Privacy Act of 1974 (5 U.S.C. 552a), as amended, which requires the submission of a new or altered system report.

Dated: September 12, 2012.
Aaron Siegel,
Alternate OSD Federal Register Liaison Officer, Department of Defense.

HDTRA 011

System name:

Inspector General Investigation Files (August 3, 2005, 70 FR 44571)

Changes:

* * * * *

System manager(s) and address:

Delete entry and replace with “Chief, Freedom of Information and Privacy Office, Defense Threat Reduction Agency, 8725 John J. Kingman Road, Fort Belvoir, VA 22060-6201.”

Notification procedure:

Delete entry and replace with “Individuals seeking to determine whether information about themselves is contained in this system of records should address written inquiries to the Chief, Freedom of Information and Privacy Office, Defense Threat Reduction Agency, 8725 John J. Kingman Road, Fort Belvoir, VA 22060-6201.

Individuals should provide their name, address, and proof of identity (photo identification for in person access or an unsworn declaration in accordance with 28 U.S.C. 1746 or a notarized statement may be required for identity verification).”

Record access procedures:

Delete entry and replace with “Individuals seeking access to information about themselves contained in this system of records should address written inquires to the Chief, Freedom of Information and Privacy Office, Defense Threat Reduction Agency, 8725 John J. Kingman Road, Fort Belvoir, VA 22060-6201.

Individuals should provide their name, address, and proof of identity (photo identification for in person access or an unsworn declaration in accordance with 28 U.S.C. 1746 or a notarized statement may be required for identity verification).”

Contesting record procedures:

Delete entry and replace with “The DTRA rules for accessing records and for contesting contents and appealing initial agency determinations are published in DTRA Instruction 5400.11, DTRA Privacy Program; 32 CFR part 318; or may be obtained from the Chief, Freedom of Information and Privacy Office, Defense Threat Reduction Agency, 8725 John J. Kingman Road, Fort Belvoir, VA 22060-6201.”

* * * * *

Exemptions claimed for the system:

Delete entry and replace with “Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this system has been promulgated in accordance with requirements of 5 U.S.C. 553(b)(1), (2), and (3), (c), and (e) and published in 32 CFR part 318.

For additional information contact the Chief, Freedom of Information and Privacy Act Office, Defense Threat Reduction Agency, 8725 John J. Kingman Road, Fort Belvoir, VA 22060-6201.”

HDTRA 021

System name:

Freedom of Information Act and Privacy Act Case Files (August 7, 2006, 71 FR 44668)

Changes:

* * * * *

Notification procedure:

Delete entry and replace with “Individuals seeking to determine whether information about themselves is contained in this system of records should submit a written request, to the Chief, Freedom of Information and Privacy Office, Defense Threat Reduction Agency, 8725 John J. Kingman Road, Fort Belvoir, VA 22060-6201.

Written requests should contain the full name, current address, telephone number, and date request was submitted.”

Record access procedures:

Delete entry and replace with “Individuals seeking access to records about themselves contained in this system of records should submit a written request, to the Chief, Freedom of Information and Privacy Office, Defense Threat Reduction Agency, 8725 John J. Kingman Road, Fort Belvoir, VA 22060-6201.

Written requests should contain the full name, current address, telephone number, and date request was submitted.”

* * * * *

Exemptions claimed for the system:

Delete entry and replace with “During the course of a FOIA and Privacy Act action, exempt materials from other systems of records may in turn become part of the case records in this system. To the extent that copies of exempt records from those other systems of records are entered into this FOIA or Privacy Act case record, DTRA hereby claims the same exemptions for the records from those other systems that are entered into this system, as claimed for the original primary systems of records which they are a part.

An exemption rule for this system has been promulgated in accordance with requirements of 5 U.S.C. 553 (b)(1), (2), and (3), (c) and (e) and published in 32 CFR part 318.

For additional information contact Chief, Freedom of Information and Privacy Act Office, Defense Threat Reduction Agency, 8725 John J. Kingman Road, Fort Belvoir, VA 22060-6201.”

HDTRA 022

System name:

Learning Management System (LMS) (December 18, 2007, 72 FR 71663)

Changes:

* * * * *

System location:

Delete entry and replace with “Defense Threat Reduction Agency, Human Resources, 8725 John J. Kingman Road, Stop 6201, Fort Belvoir, VA 22060-6201.”

Categories of individuals covered by the system:

Delete entry and replace with “Defense Threat Reduction Agency employees and contractor personnel receiving training funded or sponsored by DTRA. Department of Defense military personnel and non-appropriated fund personnel may be included in the system.”

* * * * *

System manager(s) and address:

Delete entry and replace with “Chief, Freedom of Information and Privacy Act Office, Defense Threat Reduction Agency, Policy & Program Development Division, 8725 John J. Kingman Road, Stop 6201, Fort Belvoir, VA 22060-6201.”

Notification procedure:

Delete entry and replace with “Individuals seeking to determine whether information about themselves is contained in this system of records should submit a written request to the Chief, Defense Threat Reduction Agency, Freedom of Information and Privacy Office, 8725 John J. Kingman Road, Fort Belvoir, VA 22060-6201.

Current DTRA employees may determine whether information about themselves is contained in subsets to the master file by accessing the system through their assigned DTRA computer or by contacting their immediate supervisor.”

Record access procedures:

Delete entry and replace with “Individuals seeking access to records about themselves contained in this system of records should submit a written request to the Chief, Defense Threat Reduction Agency, Freedom of Information and Privacy Office, 8725 John J. Kingman Road, Fort Belvoir, VA 22060-6201.

Current DTRA employees may determine whether information about themselves is contained in subsets to the master file by accessing the system through their assigned DTRA computer or by contacting their immediate supervisor.”

Contesting record procedures:

Delete entry and replace with “The DTRA rules for accessing records, for contesting contents, and appealing initial agency determinations are contained in 32 CFR part 318, or may be obtained from the Chief, Freedom of Information and Privacy Act Office, Defense Threat Reduction Agency, 8725 John J. Kingman Road, Stop 6201, Fort Belvoir, VA 22060-6201.”

* * * * *

[FR Doc. 2012-22849 Filed 9-17-12; 8:45 am]

BILLING CODE 5001-06-P